DEPARTMENT OF ENERGY

Energy Information Administration

Agency Information Collection Activities: Proposed Collection; Comment Request

AGENCY: Energy Information Administration (EIA), Department of Energy (DOE).

ACTION: Agency information collection activities: proposed collection; comment request.

SUMMARY: The EIA is soliciting comments on the proposed revision and three-year extension to the Form EIA-886, “Annual Survey of Alternative Fueled Vehicle Suppliers and Users.”

DATES: Comments must be filed by July 16, 2004. If you anticipate difficulty in submitting comments within that period, contact the person listed below as soon as possible.

ADDRESSES: Send comments to Mary Joyce. To ensure receipt of the comments by the due date, submission by fax (202-287-1944) or e-mail (mary.joyce@eia.doe.gov) is recommended. The mailing address is Energy Information Administration, EI-52, Forrestal Building, U.S. Department of Energy, Washington, DC 20585. Alternatively, Mary Joyce may be contacted by telephone at (202) 287-1752.

FOR FURTHER INFORMATION CONTACT: Requests for additional information or copies of any forms and instructions should be directed to Mary Joyce at the address listed above.

SUPPLEMENTARY INFORMATION:

I. Background
II. Current Actions
III. Request for Comments

I. Background

The Federal Energy Administration Act of 1974 (Pub. L. 93-275, 15 U.S.C. 761 et seq.) and the DOE Organization Act (Pub. L. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands.

The EIA, as part of its effort to comply with the Paperwork Reduction Act of 1995 (Pub. L. 104-13, 44 U.S.C. chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) under section 3507(a) of the Paperwork Reduction Act of 1995.

Form EIA-886, the Annual Survey of Alternative Fueled Vehicle Suppliers and Users, is an annual survey that collects information on:

1.The number and type of alternative fueled vehicles (AFVs) that vehicle suppliers made available in the previous calendar year and plan to make available in the following calendar year;

2.The number, type and geographic distribution of AFVs in use in the previous calendar year; and

3.The amount and distribution of each type of alternative transportation fuel (ATF) consumed in the previous calendar year.

The EIA-886 data are collected from suppliers and users of AFVs. The objectives of the EIA-886 survey are to:

1. Comply with section 503 of the Energy Policy Act of 1992 (EPACT) that requires the EIA to collect information and provide estimates related to alternative fueled vehicles, alternate transportation fuels, and replacement fuels;

2. Satisfy public requests for information on AFVs and ATFs;

3. Provide Congress with a measure of the extent to which the objectives of EPACT are being achieved; and

4. Provide EIA with a basis for estimating and forecasting total AFV and ATF use in the U.S.

The results of the EIA-886 are released annually on EIA's Web site at http://www.eia.doe.gov/fuelalternate.html.

II. Current Actions

EIA will be requesting a three-year extension of approval to its alternative fuel survey with the following survey changes.

1. Suppliers of AFVs, who report on section 3 of the form, will be requested to report the State where the AFV's were delivered or sold.

2. Users of AFVs, who report on section 2, will be requested to categorize alternative fuel consumption by fuel type, State, vehicle type, primary application, and engine configuration. Previously, they were requested to report alternative fuel consumption by fuel type and State only.

3. Users of AFVs will also be requested to report data on vehicle miles traveled by their AFVs. Vehicle miles traveled should be categorized in the same way as consumption, i.e., by fuel type, State, vehicle type, primary application, and engine configuration.

4. Users of AFVs will be requested to report data on retirements of AFVs. These data will include vehicle and fuel type as well as number, average age, and disposition of retired vehicles.

5. Instructions will be rewritten to clarify that users of AFVs should not report hybrid electric vehicles unless their primary fuel is an alternative fuel, or consumption of biodiesel unless it is consumed as 100-percent biodiesel. Suppliers of AFVs will continue to report hybrid vehicles.

6. Federal agencies are no longer required to complete the survey because EIA's data collection efforts for Federal AFVs has been merged with the DOE/GSA's Federal Automotive Statistical Tool, an on-line tracking system for Executive Order 13149 and several EPACT requirements.

The additional data will enable EIA to more accurately determine the location of AFVs and other advanced transportation vehicles in use in the U.S. They will also enable EIA to more accurately estimate total AFVs in use and total alternative fuel consumption in the U.S. EIA will also be able to satisfy customer requests for data about AFV miles traveled and AFV retirements.

III. Request for Comments

Prospective respondents and other interested parties should comment on the actions discussed in item II. The following guidelines are provided to assist in the preparation of comments. Please indicate to which section of the form (section 1, 2 or 3) your comments apply.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. What actions could be taken to help ensure and maximize the quality, objectivity, utility, and integrity of the information to be collected?

B. Are the instructions and definitions clear and sufficient? If not, which instructions need clarification?

C. Can the information be submitted by the due date?

D. Public reporting burden for this collection is estimated to average 4.4 hours per response. The estimated burden includes the total time necessary to provide the requested information. In your opinion, how accurate is this estimate?

E. The agency estimates that the only cost to a respondent is for the time it will take to complete the collection. Will a respondent incur any start-up costs for reporting, or any recurring annual costs for operation, maintenance, and purchase of services associated with the information collection?

F. What additional actions could be taken to minimize the burden of this collection of information? Such actions may involve the use of automated, electronic, mechanical, or other technological collection techniques or other forms of information technology.

G. Does any other Federal, State, or local agency collect similar information? If so, specify the agency, the data element(s), and the methods of collection.

As a Potential User of the Information To Be Collected

A. What actions could be taken to help ensure and maximize the quality, objectivity, utility, and integrity of the information disseminated?

B. Is the information useful at the levels of detail to be collected?

C. For what purpose(s) would the information be used? Be specific.

D. Are there alternate sources for the information and are they useful? If so, what are their weaknesses and/or strengths?

Comments submitted in response to this notice will be summarized and/or included in the request for OMB approval of the form. They also will become a matter of public record.

Statutory Authority: Section 3507(h)(1) of the Paperwork Reduction Act of 1995 (Pub. L. 104-13, 44 U.S.C. chapter 35).

Issued in Washington, DC, May 11, 2004.
Jay H. Casselberry,
Agency Clearance Officer, Statistics and Methods Group, Energy Information Administration.

[FR Doc. 04-11106 Filed 5-14-04; 8:45 am]

BILLING CODE 6450-01-P